DEPARTMENT OF ENERGY

Energy Employees Occupational Illness Compensation Program Act of 2000; Revision to the List of Covered Facilities

AGENCY: Office of Health and Safety, U.S. Department of Energy.

ACTION: Notice of revision of listing of covered facilities.

SUMMARY: The U.S. Department of Energy (DOE or Department) has periodically published in the Federal Register a list of facilities covered under the Energy Employees Occupational Illness Compensation Program Act of 2000, as amended (EEOICPA or Act). This Notice amends the list of covered facilities by removing the designation of Sciaky Brothers, Inc. (Chicago, Illinois), Swenson Evaporator Co. (Harvey, Illinois), and the Museum of Science and Industry (Chicago, Illinois) as Atomic Weapons Employer (AWE) facilities.

DATES: August 3, 2022.

FOR FURTHER INFORMATION CONTACT: Mr. Kevin Dressman, Director, Office of Health and Safety (EHSS-10), 1000 Independence Avenue SW, Washington, DC 20585; (301) 903-5144; or by email at kevin.dressman@hq.doe.gov.

SUPPLEMENTARY INFORMATION: This Notice amends the list of covered facilities under EEOICPA by removing the designation of Sciaky Brothers, Inc. in Chicago, Illinois; Swenson Evaporator Co. in Harvey, Illinois; and the Museum of Science and Industry in Chicago, Illinois, as AWE facilities. Previous lists or revisions were published by DOE on February 17, 2016 (81 FR 8060); July 16, 2015 (80 FR 42094); February 11, 2013 (78 FR 9678); February 6, 2012 (77 FR 5781); May 26, 2011 (76 FR 30695); August 3, 2010 (75 FR 45608); April 9, 2009 (74 FR 16191); June 28, 2007 (72 FR 35448); November 30, 2005 (70 FR 71815); August 23, 2004 (69 FR 51825); July 21, 2003 (68 FR 43095); December 27, 2002 (67 FR 79068); June 11, 2001 (66 FR 31218); and January 17, 2001 (66 FR 4003).

Purpose

EEOICPA established a program to provide compensation to individuals who developed illnesses because of their employment in nuclear weapons production-related activities of the DOE or its predecessor agencies. Covered employees include, among others, current or former employees of an “atomic weapons employer” or “AWE”, also as defined by the Act. On December 7, 2000, the President issued Executive Order 13179, “Providing Compensation to America's Nuclear Weapons Workers,” which directed DOE to list covered AWE facilities, DOE facilities, and beryllium vendor facilities in the Federal Register. The Department's initial listing was published on January 17, 2001 (66 FR 4003), and DOE has periodically updated the listing as new information has become available.

Section 3621(4) of EEOICPA (42 U.S.C. 7384l(4)) defines an AWE as “an entity, other than the United States, that—(A) processed or produced, for use by the United States, material that emitted radiation and was used in the production of an atomic weapon, excluding uranium mining and milling; and (B) is designated by the Secretary of Energy as an [AWE] for purposes of the compensation program.” Section 3621(5) of the Act (42 U.S.C. 7384l(5)) defines an “atomic weapons employer facility” as “a facility, owned by an [AWE], that is or was used to process or produce, for use by the United States, material that emitted radiation and was used in the production of an atomic weapon, excluding uranium mining or milling.”

DOE has determined that Sciaky Brothers, Inc. in Chicago, Illinois; Swenson Evaporator Co. in Harvey, Illinois; and the Museum of Science and Industry in Chicago, Illinois, do not meet the statutory definition of AWE facilities because none of these entities processed or produced, for use by the United States, material that emitted radiation and was used in the production of an atomic weapon. Therefore, the designation of these three facilities as AWE facilities was erroneous.

This Notice formally makes the changes to the listing of covered facilities as indicated below:

• Sciaky Brothers, Inc., Chicago, Illinois, is no longer designated as an AWE facility.

• Swenson Evaporator Co., Harvey, Illinois, is no longer designated as an AWE facility.

• Museum of Science and Industry, Chicago, Illinois, is no longer designated as an AWE facility.

Signing Authority

This document of the Department of Energy was signed on July 27, 2022, by Jennifer Granholm, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 29, 2022.
Treena V. Garrett,
Federal Register Liaison Officer, U.S. Department of Energy.

[FR Doc. 2022-16602 Filed 8-2-22; 8:45 am]

BILLING CODE 6450-01-P